ENVIRONMENTAL PROTECTION AGENCY

[FRL-7243-3]

Water Quality Trading Policy; Proposed Policy; Re-Opening Comment Period

AGENCY: Environmental Protection Agency.

ACTION: Notice, request for comment; re-opening of comment period.

SUMMARY: On May 15, 2002, the U.S. Environmental Protection Agency's (EPA's) invited public comment on its proposed Policy on Water Quality Trading (“proposed policy”). Today's action extends the due date for comments to July 15, 2002. The purpose of the proposed policy is to signal EPA support for soundly designed water quality trading programs developed by States and Tribes. Another purpose is to propose program components that EPA believes are appropriate for trading programs to be soundly designed and to operate successfully. In addition, the proposed policy is intended to address issues left open and limitations encountered implementing projects under EPA's January 1996 Effluent Trading Policy and May 1996 draft Framework for Watershed-Based Trading (EPA 800-R-96-001).

Water quality trading is a voluntary incentive-based approach to more efficiently protect and restore the nation's waters. The proposed policy addresses trading to maintain water quality in unimpaired waters, trading in impaired waters before development of a Total Maximum Daily Load (TMDL) and trading to meet TMDLs. While the focus is on nutrients and sediment, the policy also discusses the potential for trading other pollutants under certain circumstances.

The proposed policy is available for review at http://www.epa.gov/owow/watershed/trading.htm

DATES: The Agency requests comments on the proposed policy posted at http://www.epa.gov.owow/watershed/trading.htm. Comments must be received or post-marked by midnight on Monday, July 15, 2002.

ADDRESSES: The proposed policy is available for review at http://www.epa.gov/owow/watershed/trading.htm. Please send an original and three copies of your written comments and enclosures to W-02-07 Comment Clerk, Water Docket (MC4101), EPA, 1200 Pennsylvania Avenue, NW., Washington, DC 20460. Comments may also be submitted electronically to ow-docket@epamail.epa.gov. Electronic comments must be submitted as an ASCII, WP5.1, WP6.1 or WP8 file avoiding the use of special characters and form of encryption. Electronic comments must be identified by the docket number W-02-07. Comments and data will also be accepted on disks in WP 5.1, 6.1, 8 or ASCII file format. Electronic comments on this notice may be filed online at many Federal Depository Libraries. Hand deliveries should be delivered to: EPA's Water Docket at 401 M Street, SW., Room EB57, Washington, DC 20460.

The record for this proposed policy has been established under docket number W-02-07, and includes supporting documentation as well as printed, paper versions of electronic comments. The record is available for inspection from 9 to 4 p.m., Monday through Friday, excluding legal holidays at the Water Docket, EB 57, USEPA Headquarters, 401 M St SW., Washington, DC 20460. For access to docket materials, please call 202/260-3027 to schedule an appointment.

FOR FURTHER INFORMATION CONTACT: David Batchelor, EPA, Office of Water, (202) 564-5764, batchelor.david@epa.gov. or Lynda Hall Wynn, EPA, Office of Water, (202) 564-0472, wynn.lynda@epa.gov.

Dated: July 2, 2002.
Elisabeth LaRoe,
Director, Water Policy Staff, Office of Water.

[FR Doc. 02-17238 Filed 7-9-02; 8:45 am]

BILLING CODE 6560-50-M